DEPARTMENT OF TRANSPORTATION

Federal Railroad Administration

[Docket No. FRA 2012-0006-N-7]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than August 20, 2012.

ADDRESSES: Submit written comments on any or all of the following proposed activities by mail to either: Ms. Janet Wylie, Office of Planning and Administration, RPD-3, Federal Railroad Administration, 1200 New Jersey Ave. SE., Mail Stop 20, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0580.” Alternatively, comments may be transmitted via facsimile to (202) 493-6170, or via email to Ms. Wylie at janet.wylie@dot.gov, or to Ms. Toone at kim.toone@dot.gov. Please refer to the assigned OMB control number in any correspondence submitted. FRA will summarize comments received in response to this notice in a subsequent notice and include them in its information collection submission to OMB for approval.

FOR FURTHER INFORMATION CONTACT: Ms. Janet Wylie, Office of Planning and Administration, RPD-3, Federal Railroad Administration, 1200 New Jersey Ave. SE., Mail Stop 20, Washington, DC 20590 (telephone: (202) 493-6353) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for clearance by OMB as required under the PRA:

Title: Notice of Funds Availability and Solicitation of Applications for Grants Under the Railroad Rehabilitation and Repair Grant Program.

OMB Control Number: 2130-0580.

Status: Regular Review.

Type of Request: Revision of a currently approved collection.

Abstract: The Railroad Rehabilitation and Repair Grant Program (Catalog of Federal Domestic Assistance (CFDA) Program Number 20.314), which was originally supported with up to $20,000,000 of Federal funds provided to FRA as part of the Consolidated Security, Disaster Assistance, and Continuing Appropriations Act, 2009 (Pub. L. 110-329, September 30, 2008). On May 27, 2009, FRA selected 12 projects, totaling $15 million under this program. On August 5, 2010, FRA selected 10 more projects for the remaining funds. A few revisions to grant agreements and close-out of grants are the only remaining activities for this program.

Funds provided under this Program may constitute no more than 80 percent of the total cost of a selected project, with the remaining cost funded from other non-Federal sources. Projects include repairs and rehabilitation to Class II and Class III railroad infrastructure damaged by hurricanes, floods, and natural disasters that are located in counties that were identified in a Disaster Declaration for Public Assistance issued by the President (http://www.fema.gov/news/disasters.fema#sev1).

Class II and Class III railroad infrastructure repaired and rehabilitated include railroad rights-of-way, bridges, signals and other infrastructure which are part of the general railroad system of transportation and primarily used by railroads to move freight traffic. FRA anticipates that no further public notification will be made with respect to this Program.

Affected Public: State and local governments, government sponsored authorities and corporations, railroads.

Reporting Burden
Grant program | Respondent universe | Total annual responses | Average time per response | Total annual burden hours
Revision to Grant Applications | 22 States/Local govt | 2 grant revisions | 40 hours | 80
Progress/Financial Reports | 22 States/Local govt | 88 grantees | 2 hours | 176
Close-out Procedures | 44 States/Local govt | 44 sets of close-out documents | 36 hours | 792

Total Responses: 134.

Estimated Total Annual Burden: 1,048 hours.

Frequency of Submission: Quarterly; recordkeeping.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on June 14, 2012.
Michael Logue,
Associate Administrator for Administration, Federal Railroad Administration.

[FR Doc. 2012-15085 Filed 6-19-12; 8:45 am]

BILLING CODE 4910-06-P